NATIONAL SCIENCE FOUNDATION

Advisory Panel for Anthropological and Geographic Sciences; Notice of Meeting

In accordance with the Federal Advisory Committee Act (Pub. L. 92-463, as amended), the National Science Foundation (NSF) announces the following six meetings of the Advisory Panel for Anthropological and Geographic Sciences (#1757):

Date & Time: October 30-31, 2000; 8:30 a.m.-6 p.m.

Place: 4201 Wilson Boulevard, Room 330, Arlington, VA.

Contact Person: Dr. John Yellen, Program Director for Archaeology and Archaeometry Program, National Science Foundation, 4201 Wilson Boulevard, Suite 995, Arlington, VA 22230, Telephone: (703) 292-8759.

Agenda: To review and evaluate Archaeology proposals as part of the selection process for awards.

Date & Time: December 4-5, 2000; 8:30 a.m.-5 p.m.

Place: 4201 Wilson Boulevard, Room 310, Arlington, VA.

Contact Person: Dr. Mark Weiss, Program Director for Physical Anthropology, National Science Foundation, 4201 Wilson Boulevard, Suite 995, Arlington, VA 22230. Telephone: (703) 292-7321.

Agenda: To review and evaluate Physical Anthropology proposals as part of the selection process for awards.

Date & Time: November 2-3, 2000, 8:30 a.m.-5 p.m.

Place: 4201 Wilson Boulevard, Room 370, Arlington, VA.

Contact Person: Dr. Stuart Plattner, Program Director for Cultural Anthropology, National Science Foundation, 4201 Wilson Boulevard, Suite 995, Arlington, VA 22230. Telephone: (703) 292-7315.

Agenda: To review and evaluate Cultural Anthropology proposals as part of the selection process for awards.

Date & Time: October 26-27, 2000, 8:30 a.m.-5 p.m.

Place: 4201 Wilson Boulevard, Room 390, Arlington, VA.

Contact Person: Dr. Stuart Plattner, Program Director for Cultural Anthropology, National Science Foundation, 4201 Wilson Boulevard, Suite 995, Arlington, VA 22230. Telephone: (703) 292-7315.

Agenda: To review and evaluate Cultural Anthropology dissertation proposals as part of the selection process for awards.

Date & Time: December 7-8, 2000, 8:30 a.m.-5 p.m.

Place: 4201 Wilson Boulevard, Room 970, Arlington, VA.

Contact Person: Dr. Nina Lam, Program Director for Geography and Regional Science, National Science Foundation, 4201 Wilson Boulevard, Suite 995, Arlington, VA 22230. Telephone: (703) 292-7313.

Agenda: To review and evaluate Geography and Regional Science dissertation proposals as part of the selection process for awards.

Date & Time: November 30-December 1st, 2000, 8:30 a.m.-5 p.m.

Place: 4201 Wilson Boulevard, Room 970, Arlington, VA.

Contact Person: Dr. Nina Lam, Program Director for Geography and Regional Science, National Science Foundation, 4201 Wilson Boulevard, Suite 995, Arlington, VA 22230. Telephone: (703) 292-7313.

Agenda: To review and evaluate Geography and Regional Science proposals as part of the selection process for awards.

Type of Meetings: Closed.

Purpose of Meetings: To provide advice and recommendations concerning support for research proposals submitted to the NSF for financial support.

Reason for Closing: The proposals being reviewed include information of a proprietary or confidential nature, including technical information; financial data, such as salaries; and personal information concerning individuals associated with the proposals. These matters are exempt under 5 U.S.C. 552b(c), (4) and (6) of the Government in the Sunshine Act.

Dated: October 3, 2000.
Karen J. York,
Committee Management Officer.

[FR Doc. 00-25832 Filed 10-6-00; 8:45 am]

BILLING CODE 7555-01-M